DEPARTMENT OF COMMERCE

National Oceanic and Atmospheric Administration

Marine Mammals and Endangered Species

AGENCY: National Marine Fisheries Service (NMFS), National Oceanic and Atmospheric Administration (NOAA), Commerce.

ACTION: Notice; issuance of permits.

SUMMARY: Notice is hereby given that permits or permit amendments have been issued to the following entities under the Marine Mammal Protection Act (MMPA) and the Endangered Species Act (ESA), as applicable.

ADDRESSES: The permits and related documents are available for review upon written request or by appointment in the Permits and Conservation Division, Office of Protected Resources, NMFS, 1315 East-West Highway, Room 13705, Silver Spring, MD 20910; phone: (301) 427-8401; fax: (301) 713-0376.

FOR FURTHER INFORMATION CONTACT: Malcolm Mohead (File Nos. 21198 and 21434), Shasta McClenahan (File No. 21386), Jennifer Skidmore (File No. 20590 and 20610), Erin Markin (File No. 21260) and Amy Hapeman (File No. 21111); at (301) 427-8401.

SUPPLEMENTARY INFORMATION: Notices were published in the Federal Register on the dates listed below that requests for a permit or permit amendment had been submitted by the below-named applicants. To locate the Federal Register notice that announced our receipt of the application and a complete description of the research, go to www.federalregister.gov and search on the permit number provided in the table below.

Permit No. | RIN | Applicant | Previous Federal Register notice | Permit issuance date
20590 | 0648-XF801 | Nicole Phillips, Ph.D., The University of Southern Mississippi, 118 College Drive No. 5018, Hattiesburg, MS 39406 | 82 FR 54334; November 17, 2017 | February 22, 2018.
20610 | 0648-XF801 | David Portnoy, Ph.D., Texas A&M University, Corpus Christi, TX 78412 | 82 FR 54334; November 17, 2017 | February 27, 2018.
21111 | 0648-XF485 | NMFS Southwest Fisheries Science Center, 8901 La Jolla Shores Drive, La Jolla, CA 92037 (Responsible Party: Lisa Ballance, Ph.D.) | 82 FR 31948; July 11, 2017 | February 15, 2018.
21198 | 0648-XF861 | U.S. Fish and Wildlife Service (USFWS), Southeast Regional Office, Century Boulevard, Atlanta, GA 30602 (Responsible Party: Allan Brown) | 82 FR 57954; December 8, 2017 | February 08, 2018.
21260 | 0648-XF827 | NMFS Pacific Islands Fisheries Science Center, 1845 Wasp Boulevard, Honolulu, HI 96818 (Responsible Party: Charles Littnan, Ph.D.) | 82 FR 56815; November 30, 2017 | February 28, 2018.
21386 | 0648-XF909 | North Slope Borough Department of Wildlife Management, P.O. Box 69, Barrow, AK 99723 (Responsible Party: Taqulik Hepa) | 82 FR 60967; December 26, 2017 | February 15, 2018.
21434 | 0648-XF861 | Maryland Department of Natural Resources, Cooperative Oxford Laboratory, 904 South Morris Street, Oxford, MD 21654 (Responsible Party: Brian Richardson) | 82 FR 57954; December 8, 2017 | February 8, 2018.

In compliance with the National Environmental Policy Act of 1969 (42 U.S.C. 4321 et seq.), a final determination has been made that the activities proposed are categorically excluded from the requirement to prepare an environmental assessment or environmental impact statement.

As required by the ESA, as applicable, issuance of these permit was based on a finding that such permits: (1) Were applied for in good faith; (2) will not operate to the disadvantage of such endangered species; and (3) are consistent with the purposes and policies set forth in Section 2 of the ESA.

Authority: The requested permits have been issued under the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226), as applicable.

Dated: March 27, 2018.
Julia Harrison,
Chief, Permits and Conservation Division, Office of Protected Resources, National Marine Fisheries Service.

[FR Doc. 2018-06497 Filed 3-29-18; 8:45 am]

BILLING CODE 3510-22-P